ENVIRONMENTAL PROTECTION AGENCY

[FRL-8337-8]

Public Water Supply Supervision Program; Program Revision for the State of Alaska

AGENCY: Environmental Protection Agency (EPA).

ACTION: Notice of tentative approval.

SUMMARY: Notice is hereby given that the State of Alaska has revised its approved State Public Water Supply Supervision (PWSS) Primacy Program. The state has revised its PWSS program with respect to administrative penalty authority and has adopted a revised definition of public water system. It has also adopted regulations for variances and exemptions, the Consumer Confidence Report, the Interim Enhanced Surface Water Treatment Rule, the Stage 1 Disinfectants and Disinfection Byproducts Rule, the Lead and Copper Rule Minor Revisions, the Public Notification Rule, the Radionuclides Rule, the Filter Backwash Recycling Rule, the Long Term 1 Enhanced Surface Water Treatment Rule, and the Arsenic Rule. EPA has determined that these revisions are no less stringent than the corresponding federal regulations. Therefore, EPA intends to approve these State program revisions. By approving these rules, EPA does not intend to affect the rights of Federally recognized Indian tribes within “Indian country” as defined by 18 U.S.C. 1151, nor does it intend to limit existing rights of the State of Alaska.

All interested parties may request a public hearing. A request for a public hearing must be submitted by August 9, 2007, to the Regional Administrator at the address shown below. Frivolous or insubstantial requests for a hearing may be denied by the Regional Administrator. However, if a substantial request for a public hearing is made by August 9, 2007, a public hearing will be held. If no timely and appropriate request for a hearing is received and the Regional Administrator does not elect to hold a hearing on her own motion, this determination shall become final and effective on August 9, 2007. Any request for a public hearing shall include the following information:

(1) The name, address, and telephone number of the individual, organization, or other entity requesting a hearing; (2) a brief statement of the requesting person's interest in the Regional Administrator's determination and a brief statement of the information that the requesting person intends to submit at such hearing; (3) the signature of the individual making the request, or, if the request is made on behalf of an organization or other entity, the signature of a responsible official of the organization or other entity.

ADDRESSES: All documents relating to this determination are available for inspection between the hours of 9 a.m. and 4 p.m., Monday through Friday, at the following offices: Alaska Department of Environmental Conservation (ADEC), 410 Willoughby, Suite 303, Juneau, Alaska 99801; ADEC South Central Regional Office, 555 Cordova Street, Anchorage, Alaska 99501; ADEC Northern Regional Office, 610 University Avenue Fairbanks, Alaska 99709-3643; and between the hours of 9 a.m.—noon and 1—2:30 p.m., Monday through Friday at: U.S. Environmental Protection Agency, Region 10 Library, 1200 Sixth Avenue, Seattle, Washington 98101.

FOR FURTHER INFORMATION CONTACT: Wendy Marshall, EPA Region 10, Drinking Water Unit, at the Seattle address given above; telephone (206) 553-1890, e-mail marshall.wendy@epa.gov.

Authority: Section 1420 of the Safe Drinking Water Act, as amended (1996), and 40 CFR Part 142 of the National Primary Drinking Water Regulations.

Dated: June 25, 2007.
Elin D. Miller,
Regional Administrator. Region 10.

[FR Doc. E7-13338 Filed 7-9-07; 8:45 am]

BILLING CODE 6560-50-P